DEPARTMENT OF THE INTERIOR

National Park Service

Notice of Availability of an Environmental Assessment on a Proposed Transfer of Jurisdiction of a Portion of Fort Dupont Park, Washington, DC

AGENCY: National Park Service, Department of the Interior.

ACTION: Notice of Availability of an Environmental Assessment for the transfer of jurisdiction to the District of Columbia of a portion of Fort Dupont Park.

SUMMARY: In accordance with Sec. 102(2)(C) of the National Environmental Policy Act, 42 U.S.C. 4321 et seq., (NEPA), and the National Park Service's Director's Order 12: Conservation Planning, Environmental Impact Analysis, and Decision-making, the National Park Service (NPS) has prepared an Environmental Assessment (EA) for transferring jurisdiction of a portion of NPS property within Fort Dupont Park, one of the Fort Circle Parks, to the District of Columbia (District) for recreational development and uses, and resulting in the possible amendment of the NPS' 2004 Final Management Plan for Fort Circle Parks (Management Plan).

DATES: Public comment on the EA will be accepted until November 17, 2008.

ADDRESSES: Comments may be submitted through the Planning, Environment and Public Comment (PEPC) Web site at http://parkplanning.nps.gov/NACE or by mail to: Superintendent, National Capital Parks-East, RE: Fort Dupont Park Land Transfer Proposal, 1900 Anacostia Drive, SE., Washington, DC 20020.

Before including your address, phone number, e-mail address, or other personal identifying information in your comment, you should be aware that your entire comment, including your personal identifying information, may be made publicly available at any time. While you can ask us in your comment to withhold your personal identifying information from public review, we cannot guarantee that we will be able to do so.

FOR FURTHER INFORMATION CONTACT: Gayle Hazelwood, Superintendent, National Capital Parks-East, RE: Fort Dupont Park Land Transfer Proposal, at 1900 Anacostia Drive, SE., Washington, DC 20020 or by telephone at (202) 690-5127, or by e-mail at gayle_hazelwood@nps.gov.

SUPPLEMENTARY INFORMATION: The NPS is considering transferring jurisdiction to the District over a 15-acre parcel at one end of Fort Dupont Park (the Project Area), that is currently used for recreational purposes. The transfer would facilitate the development of new recreational facilities and programs in the Project Area by the District, including a proposal to create a baseball academy for area youth and another to expand an existing indoor ice skating arena. The District's proposal would involve the help of private-sector partners. If the decision is made to go forward with this transfer, it would occur pursuant to U.S. Code Title 40 Section 8124 (40 U.S.C. 8124), which authorizes transfers of jurisdiction in the District of Columbia. The 376-acre Fort Dupont Park is one of the Civil War Defenses of Washington and is one of the Fort Circle Parks managed by the NPS. In 2004, the NPS completed the Management Plan and an action to transfer these lands to the District would likely result in amendment of that plan.

The EA studies the potential impacts of the proposed transfer to the District, of the approximately 15 acres situated on the north side of Fort Dupont Park along Ely Place in Southeast Washington, DC. In addition to the indoor ice skating arena, the Project Area contains ballfields, basketball and tennis courts and a parking lot, among other features. The Project Area is not in an area of Fort Dupont Park that is associated with the Civil War Defense of Washington, and does not contain earthworks or other historic or archeological resources. Once transferred, the Project Area would no longer be part of the Park and no longer be managed or administered by the NPS.

The NPS is using this EA to decide whether to go forward with this transfer to the District, and the EA contains the information currently known about the District's plans for the Project Area if the transfer does occur. The EA evaluates two alternatives: The no action alternative (Alternative 1), and the preferred alternative (Alternative 2), which proposes to transfer jurisdiction of the Project Area to the District. Alternative 2, to transfer jurisdiction, provides four separate options for the possible configuration of the Fort Dupont Ice Arena expansion and three separate options on how the proposed Youth Baseball Academy facilities could be configured on the site, with one option that maintains the multi-purpose sports field within the Project Area.

Under Alternative 2, the Fort Dupont Ice Arena would be expanded to approximately twice its current size and a Youth Baseball Academy would be established on site. The Youth Baseball Academy would require the construction of a building to support administrative functions and three ball fields, including one regulation sized baseball field, two softball fields, and associated parking. One of the options presented under Alternative 2 also includes a multi-purpose sports field such as a football/soccer field. The three existing basketball courts and four existing tennis courts located within the Project Area would remain, with responsibility for the facilities there, including the indoor ice skating arena transferred from NPS to the District along with the land which would no longer be part of Fort Dupont Park. The transfer of jurisdiction would necessitate amending the Management Plan, which provides a managerial framework for decisions about use and development within the Fort Circle Parks, including Fort Dupont Park. On the other hand, under Alternative 1, which is the no action alternative, the current layout, condition, and management of Fort Dupont Park would not change. The proposed development would not occur and the Management Plan would not be amended.

Information and comments gathered during public meetings and an extended scoping period were considered in the preparation of this EA to identify the range of issues and potential impacts of this proposed action. The NPS also coordinated and consulted with the District and federal agencies to identify issues and concerns related to the natural and cultural resources.

Dated: October 6, 2008.
Lisa A. Mendelson-Ielmini,
Regional Director, National Capital Region.

[FR Doc. E8-24500 Filed 10-15-08; 8:45 am]

BILLING CODE 4312-JU-P